DEPARTMENT OF EDUCATION

34 CFR Part 75

[Docket ID ED-2025-OS-0745]

Proposed Priority and Definitions—Secretary's Supplemental Priority and Definitions on Promoting Patriotic Education

AGENCY: U.S. Department of Education.

ACTION: Proposed priority and definitions.

SUMMARY: The Secretary proposes one additional priority and related definitions for use in currently authorized discretionary grant programs or programs that may be authorized in the future. The Secretary may choose to use the entire priority for a grant program or a particular competition or use one or more of the priority's component parts. This priority and definitions augment other Secretary's Supplemental Priorities, such as the initial set of three Secretary's Supplemental Priorities on Evidence-Based Literacy, Educational Choice, and Returning Education to the States published as final priorities on September 9, 2025, (90 FR 43514) and the additional Secretary's Supplemental Priority on Artificial Intelligence published as a proposed priority on July 21, 2025 (90 FR 34203).

DATES: We must receive your comments on or before October 17, 2025.

ADDRESSES: Comments must be submitted via the Federal eRulemaking Portal at Regulations.gov. See the SUPPLEMENTARY INFORMATION section for more details.

FOR FURTHER INFORMATION CONTACT: Zachary Rogers, U.S. Department of Education, 400 Maryland Avenue SW, Room 7W213, Washington, DC 20202-6450. Telephone: (202) 260-1144. Email: SSP@ed.gov.

If you are deaf, hard of hearing, or have a speech disability and wish to access telecommunications relay services, please dial 7-1-1.

SUPPLEMENTARY INFORMATION:

Invitation to Comment: We invite you to submit comments regarding the proposed priority and definitions. Comments must be submitted via the Federal eRulemaking Portal at Regulations.gov. However, if you require an accommodation or cannot otherwise submit your comments via Regulations.gov, please contact the program contact person listed under FOR FURTHER INFORMATION CONTACT. The Department will not accept comments by fax or by email, or comments submitted after the comment period closes. To ensure that the Department does not receive duplicate copies, please submit your comments only once. Additionally, please include the Docket ID at the top of your comments.

Federal eRulemaking Portal: Go to www.Regulations.gov to submit your comments electronically. Information on using Regulations.gov, including instructions for accessing agency documents, submitting comments, and viewing the docket, is available on the site under “FAQ.” Also included on Regulations.gov is a commenter checklist that addresses how to submit effective comments.

In instances where individual submissions appear to be duplicates or near duplicates of comments prepared as part of a writing campaign, the Department may choose to post to Regulations.gov one representative sample comment along with the total comment count for that campaign. The Department will consider these comments along with all other comments received. In instances where individual submissions are bundled together (submitted as a single document or packaged together), the Department will post all of the substantive comments included in the submissions along with the total comment count for that document or package to Regulations.gov. Comments containing personal threats will not be posted to Regulations.gov and may be referred to the appropriate authorities.

During and after the comment period, you may inspect public comments about the proposed priority and definitions by accessing Regulations.gov. To inspect comments in person, please contact the person listed under FOR FURTHER INFORMATION CONTACT.

Privacy Note: The Department's policy is to generally make all comments received from members of the public available for public viewing in their entirety on the Federal eRulemaking Portal at Regulations.gov. Therefore, commenters should be careful to include in their comments only information that they wish to make publicly available.

Assistance to Individuals with Disabilities in Reviewing the Rulemaking Record: On request, we will provide an appropriate accommodation or auxiliary aid to an individual with a disability who needs assistance to review the comments or other documents in the public rulemaking record for this document. If you want to schedule an appointment for this type of accommodation or auxiliary aid, please contact the person listed under FOR FURTHER INFORMATION CONTACT.

Program Authority: 20 U.S.C. 1221e-3, 3474.

Proposed Priority: This document contains one proposed priority.

Proposed Priority: Promoting Patriotic Education.

Background: The success of the American experiment in self-government requires the cultivation of both citizenship competency and informed patriotism among the American People. Citizens must understand why our free-market economy is a highly evolved system of cooperation fostered by our constitutional republic, and how it functions to secure the blessings of liberty for all Americans. This understanding can only be acquired and prove to be lasting when rooted in a recognition of the nobility of America's foundational principles and ideals, and an accurate and honest account of American history that shows how the United States has worked through private and public efforts to live up to them better.

All too often, government is misunderstood to be synonymous with those things that We the People do together when in fact it is merely a subset thereof. Rather, our voluntary individual actions channeled through the intermediary institutions of civil society—such as our companies, places of worship, schools, fraternal organizations, and civic associations—are critically important to the proper functioning of the American economic, social, and political system. In the American system of liberty, educated citizens who know their rights and meet their responsibilities cooperate to build a more perfect Union and inherit the opportunities of a free society.

To provide a common foundation and shared conception of this more perfect Union, we must transmit to all American students a shared understanding of our political, economic, intellectual, and cultural history—including our national symbols and heroes. At the same time, this American political tradition must be situated within the broader context of the political, economic, intellectual, and cultural history of Western Civilization.

This priority focuses grant funds on programs that promote a patriotic education that cultivates citizen competency and informed patriotism among and communicates the American political tradition to students at all levels, including activities and programs accessible to students with special needs.

Proposed Priority: Projects that are designed to provide an introduction to and understanding of the founding documents and primary sources of the American political tradition, in a manner consistent with the principles of a patriotic education. Projects may address one or more of the following topics:

(a) United States Constitution, government, and civics.

(b) United States history and geography.

(c) United States military and diplomatic history.

(d) United States literature and rhetoric.

(e) United States art (architecture, painting, music, photography, theater, cinema, and sculpture, etc.).

(f) The founding documents and primary sources of Western Civilization and the American founding and their influence on the American political tradition.

(g) The influence of Western Europe upon the American political tradition.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Proposed Definitions:

Background: The Secretary proposes the following definitions for use in any Department discretionary grant program in which the proposed priority is used.

American political tradition includes the founding documents, essential principles of republican government, and historical development of America's government; key works of history, literature, humanities, and art; the influence of Western Civilization, including ancient Greece, Rome, and Judeo-Christianity; the history of Western Europe linked to the history and development of the United States; the role of faith; and the founding documents and primary sources of the American founding (ideas, traditions, institutions, and texts essential to American constitutional government) with a focus on the first principles of the founding, their inclusion in the Constitution and the Bill of Rights, and their development over time that have shaped America's culture.

Patriotic education means a presentation of the history of America grounded in an accurate, honest, unifying, inspiring, and ennobling characterization of the American founding and foundational principles; a clear examination of how the United States has admirably grown closer to its noble principles throughout its history; and the concept that commitment to America's aspirations is beneficial and justified.

Note: Nothing in this definition should be construed as implicating a particular curriculum, program of instruction, or specific academic content.

Final Priority and Definitions: The Department will announce the final priority and definitions in a document in the Federal Register. We will determine the final priority and definitions after considering responses to the proposed priority and definitions and other information available to the Department. This document does not preclude us from proposing additional priorities, requirements, or definitions, subject to meeting applicable rulemaking requirements.

Note: This document does not solicit applications. In any year in which we choose to use any of the final priority and definitions, we invite applications through a notice in the Federal Register.

Executive Orders 12866, 13563, and 14192

Regulatory Impact Analysis:

This proposed regulatory action is not a significant regulatory action subject to review by the Office of Management and Budget under section 3(f) of Executive Order 12866. Since this regulatory action is not a significant regulatory action under section 3(f) of Executive Order 12866, it is not considered an “Executive Order 14192 regulatory action.”

We have also reviewed this proposed regulatory action under Executive Order 13563. We are issuing the proposed priority and definitions only on a reasoned determination that their benefits would justify their minimal costs. The Department believes that this regulatory action is consistent with the principles in Executive Order 13563.

We also have determined that this regulatory action would not unduly interfere with State, local, and Tribal governments in the exercise of their governmental functions.

In accordance with these Executive Orders, the Department has assessed the potential costs and benefits, both quantitative and qualitative, of this regulatory action. The potential costs are those resulting from statutory requirements and those we have determined are necessary for administering the Department's programs and activities.

Discussion of Costs and Benefits:

The proposed priority and definitions would impose no or minimal costs on entities that receive discretionary grant award funds from the Department. Additionally, the benefits of implementing the proposed priority and definitions outweigh any associated costs, to the extent these de minimis costs even exist, because the proposed priority and definitions would result in higher quality grant application submissions.

Application submission and participation in competitive grant programs that might use this proposed priority and definitions is voluntary. We believe, based on the Department's administrative experience, that entities preparing an application would not need to expend more resources than they otherwise would have in the absence of this proposed priority and definitions. Therefore, any potential costs to applicants would be de minimis. Moreover, because the costs of carrying out activities would be paid for with program funds, the costs of implementation would not be a burden for any eligible applicants that earn a grant award, including small entities. We invite the public to comment on this discussion of estimated costs and benefits. We are specifically interested in high quality comments supported with quantitative data.

Intergovernmental Review: This action is subject to Executive Order 12372 and the regulations in 34 CFR part 79.

This document provides early notification of our specific plans and actions for this program.

Regulatory Flexibility Act Certification:

This section considers the effects that the final regulations may have on small entities in the educational sector as required by the Regulatory Flexibility Act, 5 U.S.C. 601 et seq. The Secretary certifies that this proposed regulatory action would not have a substantial economic impact on a substantial number of small entities.

The U.S. Small Business Administration Size Standards define proprietary institutions as small businesses if they are independently owned and operated, are not dominant in their field of operation, and have total annual revenue below $7,000,000. Nonprofit institutions are defined as small entities if they are independently owned and operated and not dominant in their field of operation. Public institutions are defined as small organizations if they are operated by a government overseeing a population below 50,000.

Paperwork Reduction Act: The proposed priority and definitions do not contain information collection requirements or affect the currently approved data collection.

Accessible Format: On request to the program contact person listed under FOR FURTHER INFORMATION CONTACT, individuals with disabilities can obtain this document in an accessible format. The Department will provide the requestor with an accessible format that may include Rich Text Format (RTF) or text format (txt), a thumb drive, an MP3 file, braille, large print, audiotape, compact disc, or another accessible format.

Electronic Access to This Document: The official version of this document is the document published in the Federal Register. You may access the official edition of the Federal Register and the Code of Federal Regulations at www.govinfo.gov. You may also access documents of the Department published in the Federal Register by using the article search feature at www.federalregister.gov.

Signing Authority

This document of the U.S. Department of Education was signed on September 12, 2025, by Linda McMahon, Secretary of Education. That document with the original signature and date is maintained by the U.S. Department of Education. For administrative purposes only, and in compliance with requirements of the Office of the Federal Register, the undersigned has been authorized to sign the document in electronic format for publication, as an official document of the U.S. Department of Education. This administrative process in no way alters the legal effect of this document upon publication in the Federal Register.

Tracey St. Pierre,
Director, Office of the Executive Secretariat, Office of the Secretary, U.S. Department of Education.

[FR Doc. 2025-17960 Filed 9-16-25; 8:45 am]

BILLING CODE 4000-01-P